DEPARTMENT OF AGRICULTURE

Animal and Plant Health Inspection Service

[Docket No. APHIS-2022-0013]

Notice of Request for Revision to and Extension of Approval of an Information Collection; National Management Information System

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the national management information system for cooperative wildlife damage management programs.

DATES: We will consider all comments that we receive on or before May 27, 2022.

ADDRESSES: You may submit comments by either of the following methods:

• Federal eRulemaking Portal: Go to www.regulations.gov. Enter APHIS-2022-0013 in the Search field. Select the Documents tab, then select the Comment button in the list of documents.

• Postal Mail/Commercial Delivery: Send your comment to Docket No. APHIS-2022-0013, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the national management information system for cooperative wildlife damage management programs, contact Mr. Andrew Hubble, Wildlife Services, APHIS, 4700 River Road, Unit 87, Riverdale, MD 20737; (301) 851-4014. For more detailed information about the information collection process, contact Mr. Joseph Moxey, APHIS' Paperwork Reduction Act Coordinator, at (301) 851-2483.

SUPPLEMENTARY INFORMATION:

Title: National Management Information System.

OMB Control Number: 0579-0335.

Type of Request: Revision to and extension of approval of an information collection.

Abstract: In accordance with the Act of March 2, 1931 (46 Stat. 1468-1469; 7 U.S.C. 8351 to 8352, as amended) and the Act of December 22, 1987 (Pub. L. 100-202, 101(k), 101 Stat. 1329-331, 7 U.S.C. 8353) and 16 U.S.C. 667, the Animal and Plant Health Inspection Service (APHIS), Wildlife Services (WS) officers, agents, and employees are authorized to conduct a program of wildlife services that resolves conflicts to allow people and wildlife to coexist. To conduct these services, WS enter into agreements with States, local jurisdictions, individuals, and public and private agencies, organizations, and institutions.

WS is responsible for assisting the public with mitigating wildlife damage. Through its technical assistance approach, WS offers advice through telephone or onsite consultations, training sessions, demonstration projects, and other means. Mitigation activities are then performed by the requester. WS also provides a cooperative direct control approach where goods, services, and expertise are provided on a cost-reimbursable basis. WS collects only information needed to determine appropriate courses of action for providing effective services. Information is used by the agency to:

• Identify cooperators appropriately;

• Identify lands on which WS personnel will work;

• Differentiate between cooperators (i.e., property owners, land managers, or resource owners) who request assistance to manage damage caused by wildlife;

• Identify the land areas on which wildlife damage management activities would be conducted;

• Identify the relationship between resources or property, WS' protection of such resources or property, and the damage caused by wildlife;

• Determine the methods or damage management activities to deal with the damage;

• Establish a record that a cooperative agreement has been entered into with a cooperator;

• Document that permission has been obtained from landowners to go on the cooperator's property;

• Record wildlife damage occurrences on cooperator's property and steps to address them;

• Record occurrences that may have affected non-target species or humans during, or related to, WS project actions; and

• Determine satisfaction with service to help WS evaluate, modify, and improve its programs.

Information collection activities include work initiation documents, assistance requests, project reports, order forms and sales records, equipment issuances, migratory bird damage reports, reports of injury or death to non-target animals, accident reports, and pilot proficiency reviews.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.05 hours per response.

Respondents: State, local, and Tribal governments; businesses, not-for-profits, and other public sector organizations; and individuals who request services from WS or engage in wildlife damage management projects with WS.

Estimated annual number of respondents: 77,715.

Estimated annual number of responses per respondent: 1.

Estimated annual number of responses: 86,277.

Estimated total annual burden on respondents: 4,003 hours. (Due to averaging, the total annual burden hours may not equal the product of the annual number of responses multiplied by the reporting burden per response.)

All responses to this notice will be summarized and included in the request for OMB approval. All comments will also become a matter of public record.

Done in Washington, DC, this 23rd day of March 2022.
Anthony Shea.
Administrator, Animal and Plant Health Inspection Service.

[FR Doc. 2022-06487 Filed 3-25-22; 8:45 am]

BILLING CODE 3410-34-P